DEPARTMENT OF LABOR

Employment and Training Administration

[TA-W-65,072]

Eaton Hydraulics, Greenwood, SC; Notice of Termination of Investigation

Pursuant to Section 221 of the Trade Act of 1974, as amended, an investigation was initiated on February 2, 2009, in response to a worker petition filed on behalf of workers at Eaton Hydraulics, Greenwood, South Carolina.

The petitioner has requested that the petition be withdrawn. Consequently, the investigation has been terminated.

Signed at Washington, DC, this 26th day of March 2009.
Elliott S. Kushner,
Certifying Officer, Division of Trade Adjustment Assistance.

[FR Doc. E9-8916 Filed 4-17-09; 8:45 am]

BILLING CODE 4510-FN-P